DEPARTMENT OF STATE

[Public Notice: 11419]

Bureau of Oceans and International Environmental and Scientific Affairs; Annual Certification of Shrimp-Harvesting Nations

ACTION: Notice of annual certification.

SUMMARY: On April 26, 2021, the Department of State declared that wild-caught shrimp harvested in the following nations, particular fisheries of certain nations, and Hong Kong are eligible to enter the United States: Argentina, Australia (Northern Prawn Fishery, the Queensland East Coast Trawl Fishery, the Spencer Gulf, and the Torres Strait Prawn Fishery), The Bahamas, Belgium, Belize, Canada, Chile, Colombia, Costa Rica, Denmark, the Dominican Republic, Ecuador, El Salvador, Fiji, France (French Guiana), Gabon, Germany, Guatemala, Guyana, Honduras, Iceland, Ireland, Jamaica, Japan (shrimp baskets in Hokkaido), Republic of Korea (mosquito nets), Malaysia (Kelantan, Terengganu, Pahang, and Johor), the Netherlands, New Zealand, Nicaragua, Nigeria, Norway, Oman, Panama, Peru, Russia, Spain (Mediterranean red shrimp), Sri Lanka, Suriname, Sweden, the United Kingdom, and Uruguay. For nations, economies, and fisheries not listed above, only shrimp harvested from aquaculture is eligible to enter the United States. All shrimp imports into the United States must be accompanied by the DS-2031 Shrimp Exporter's/Importer's Declaration.

DATES: This certification is effective on 4/30/2021.

FOR FURTHER INFORMATION CONTACT: Joseph Fette, Section 609 Program Manager, Office of Marine Conservation, Bureau of Oceans and International Environmental and Scientific Affairs, Department of State, 2201 C Street NW, Washington, DC 20520-2758; telephone: (202) 647-2335; email: DS2031@state.gov.

SUPPLEMENTARY INFORMATION: Section 609 of Public Law 101-162 (“Sec. 609”) prohibits imports of wild-caught shrimp or products from shrimp harvested with commercial fishing technology unless the President certifies to the Congress by May 1, 1991, and annually thereafter, that either: (1) The harvesting nation has adopted a regulatory program governing the incidental taking of relevant species of sea turtles in the course of commercial shrimp harvesting that is comparable to that of the United States and that the average rate of that incidental taking by the vessels of the harvesting nation is comparable to the average rate of incidental taking of sea turtles by United States vessels in the course of such harvesting; or (2) the particular fishing environment of the harvesting nation does not pose a threat of the incidental taking of sea turtles in the course of shrimp harvesting. The President has delegated the authority to make this certification to the Secretary of State (“Secretary”) who further delegated the authority within the Department of State (“Department”). The Revised Guidelines for the Implementation of Sec. 609 were published in the Federal Register on July 8, 1999, at 64 FR 36946.

On April 26, 2021, the Department certified the following nations on the basis that their sea turtle protection programs are comparable to that of the United States: Colombia, Ecuador, El Salvador, Gabon, Guatemala, Guyana, Honduras, Nicaragua, Nigeria, Panama, and Suriname. The Department suspended the certification of Mexico because its sea turtle protection program is no longer comparable to that of the United States. The Department also certified several shrimp-harvesting nations and one economy as having fishing environments that do not pose a danger to sea turtles. The following nations have shrimping grounds only in cold waters where the risk of taking sea turtles is negligible: Argentina, Belgium, Canada, Chile, Denmark, Germany, Iceland, Ireland, the Netherlands, New Zealand, Norway, Russia, Sweden, the United Kingdom, and Uruguay. Finland voluntarily withdrew its certification for lack of a shrimp fishery. The following nations and Hong Kong only harvest shrimp using small boats with crews of less than five that use manual rather than mechanical means to retrieve nets or catch shrimp using other methods that do not threaten sea turtles: The Bahamas, Belize, Costa Rica, the Dominican Republic, Fiji, Jamaica, Oman, Peru, and Sri Lanka. Use of such small-scale technology does not adversely affect sea turtles.

A completed DS-2031 Shrimp Exporter's/Importer's Declaration (“DS-2031”) must accompany all imports of shrimp and products from shrimp into the United States. Importers of shrimp and products from shrimp harvested in the certified nations and one economy listed above must either provide the DS-2031 form to Customs and Border Protection at the port of entry or provide the information required by the DS-2031 through the Automated Commercial Environment. DS-2031 forms accompanying all imports of shrimp and products from shrimp harvested in uncertified nations and economies must be originals with Box 7(A)(1), 7(A)(2), or 7(A)(4) checked, consistent with the form's instructions with regard to the method of harvest of the shrimp and based on any relevant prior determinations by the Department, and signed by a responsible government official of the harvesting nation. The Department did not determine that shrimp or products from shrimp harvested in a manner as described in 7(A)(3) in any uncertified nation or economy is eligible to enter the United States.

Shrimp and products of shrimp harvested with turtle excluder devices (“TEDs”) in an uncertified nation may, under specific circumstances, be eligible for importation into the United States under the DS-2031 Box 7(A)(2) provision for “shrimp harvested by commercial shrimp trawl vessels using TEDs comparable in effectiveness to those required in the United States.” Use of this provision requires that the Secretary or his or her delegate determine in advance that the government of the harvesting nation has put in place adequate procedures to monitor the use of TEDs in the specific fishery in question and to ensure the accurate completion of the DS-2031 forms. At this time, the Department has determined that only shrimp and products from shrimp harvested in the Northern Prawn Fishery, the Queensland East Coast Trawl Fishery, and the Torres Strait Prawn Fishery in Australia, in the French Guiana domestic trawl fishery, and in the fisheries of Kelantan, Terengganu, Pahang, and Johor, Malaysia, are eligible for entry under this provision. The importation of TED-caught shrimp from any other uncertified nation will not be allowed. A responsible government official of Australia, France, or Malaysia must sign in Block 8 of the DS-2031 form accompanying these imports into the United States.

In addition, the Department has determined that shrimp and products from shrimp harvested in the Spencer Gulf region in Australia, with shrimp baskets in Hokkaido, Japan, with “mosquito” nets in the Republic of Korea, and Mediterranean red shrimp (Aristeus antennatus) and products from that shrimp harvested in the Mediterranean Sea by Spain may be imported into the United States under the DS-2031 Box 7(A)(4) provision for “shrimp harvested in a manner or under circumstances determined by the Department of State not to pose a threat of the incidental taking of sea turtles.” A responsible government official of Australia, Japan, the Republic of Korea, or Spain must sign in Block 8 of the DS-2031 form accompanying these imports into the United States. The Department has communicated these certifications and determinations under Sec. 609 to the Trade Transformation Office at U.S. Customs and Border Protection.

David F. Hogan,
Acting Director, Office of Marine Conservation, Department of State.

[FR Doc. 2021-09077 Filed 4-29-21; 8:45 am]

BILLING CODE 4710-09-P